DEPARTMENT OF THE INTERIOR

National Park Service

[NPS-WASO-NAGPRA-NPS0040410; PPWOCRADN0-PCU00RP14.R50000]

Notice of Intended Repatriation: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology, Harvard University (PMAE) intends to repatriate certain cultural items that meet the definition of unassociated funerary objects or sacred objects and that have a cultural affiliation with the Indian Tribes or Native Hawaiian organizations in this notice.

DATES: Repatriation of the cultural items in this notice may occur on or after July 17, 2025.

ADDRESSES: Send additional, written requests for repatriation of the cultural items in this notice to Deanna Byrd, Peabody Museum of Archaeology and Ethnology, Harvard University, 11 Divinity Avenue, Cambridge, MA 02138, email deannabyrd@fas.harvard.edu and pmnagpra@fas.harvard.edu.

SUPPLEMENTARY INFORMATION: This notice is published as part of the National Park Service's administrative responsibilities under NAGPRA. The determinations in this notice are the sole responsibility of the PMAE, and additional information on the determinations in this notice, including the results of consultation, can be found in the summary or related records. The National Park Service is not responsible for the determinations in this notice.

Abstract of Information Available

A total of 221 cultural items have been requested for repatriation. These cultural items consist of 206 unassociated funerary objects and 15 sacred objects from sites in Davidson, Dickson, Jackson, Marion, McMinn, Sumner, and Williamson Counties, TN.

Davidson County, TN: Unassociated Funerary Objects

The 14 unassociated funerary objects removed from the Bowling Farm Site (40DV426) in Davidson County, TN, include 13 objects that are present at the PMAE and one object that is not currently located. The 13 unassociated funerary objects present at the PMAE are 13 lots consisting of stone, shell, and faunal items. The one unassociated funerary object not currently located is one lot consisting of shell items. These objects were collected in 1877 by Edwin Curtiss as part of a PMAE expedition and accessioned by the PMAE the same year.

The one unassociated funerary object removed from the Brick Church Mound and Village Site (40DV39), also known as “Love Mound,” in Davidson County, TN, is one lot consisting of stone items. Thomas B. Ballow collected this lot of objects at an unknown date and donated them to the PMAE in 1877.

The two unassociated funerary objects removed from J.M. Overton's Farm (40DV11), also known as the Traveller's Rest site, in Davidson County, TN, are two lots consisting of stone items. These objects were collected by Mrs. John M. Overton at an unknown date and donated to the PMAE in 1877.

The three unassociated funerary objects removed from Marshall's Farm in Davidson County, TN, are three lots consisting of worked stone items. These objects were collected in 1878 by Edwin Curtiss as part of a PMAE expedition and accessioned by the PMAE in 1879.

The nine unassociated funerary objects removed from Mr. Gower's Place in Davidson County, TN are nine lots consisting of stone, lava, and ceramic items. These objects were collected in 1879 by Edwin Curtiss as part of a PMAE Expedition and accessioned by the PMAE the same year.

The 16 unassociated funerary objects removed from Noel Cemetery (40DV3), including the areas also known as Cain's Field and Cain's Farm, in Davidson County, TN, include 11 objects that are present at the PMAE and five objects that are not currently located. The 11 unassociated funerary objects present at the PMAE are 11 lots consisting of stone and ceramic items. The five unassociated funerary objects not currently located are five lots consisting of ceramic, faunal, and stone items. These objects were collected in 1878 by Edwin Curtiss as part of a PMAE expedition and accessioned by the PMAE the same year.

The nine unassociated funerary objects removed from T.F. Wilkinson's Farm (40DV6), also known as the Gordontown site, in Davidson County, TN, include eight objects that are present at the PMAE and one object that is not currently located. The eight unassociated funerary objects present at the PMAE are eight lots of stone and ceramic items. The one unassociated funerary object not currently located is one lot of stone items. These objects were collected in 1877 by Edwin Curtiss as part of a PMAE expedition and accessioned by the PMAE the same year.

The one unassociated funerary object removed from the vicinity of Sulphur Spring, near Nashville, Davidson County, TN, is one lot consisting of stone items. These objects were collected in 1879 by Edwin Curtiss as part of a PMAE expedition and accessioned by the PMAE the same year.

Davidson County, TN: Sacred Objects

The seven sacred objects removed from the Brick Church Mound and Village Site (40DV39), also known as “Love Mound”, in Davidson County, TN, are seven lots consisting of coal, charcoal, shell, clay or ceramic, and stone items, and other natural materials. Federic Ward Putnam collected these sacred objects in 1877 and donated them to the PMAE the same year.

The one sacred object removed from Edgefield Mound in Davidson County, TN, is one lot consisting of stone items. This sacred object was collected in 1878 by Edwin Curtiss as part of a PMAE expedition and accessioned by the PMAE the same year.

Dickson County, TN: Unassociated Funerary Objects

The 22 unassociated funerary objects removed from Anderson's Farm (40DS44) in Dickson County, TN, include 21 objects that are present at the PMAE and one object that is not currently located. The 21 unassociated funerary objects present at the PMAE are 21 lots consisting of stone and ceramic items. The one unassociated funerary object not currently located is one lot consisting of stone items. These objects were collected in 1879 by Edwin Curtiss as part of a PMAE expedition and accessioned by the PMAE the same year.

The one unassociated funerary object removed from graves at an unknown location in Dickson County, TN, is one lot consisting of a “necklace” made of stone or fossil beads. This object was collected by Dr. Frederic T. Lewis in the 1920s and donated to the PMAE by Mrs. Frederic T. Lewis in 1963.

The three unassociated funerary objects from unknown sites in Dickson County, TN, are three lots consisting of stone items. These objects were collected by George T. Halley in 1887 and donated to the PMAE by Halley the same year.

Jackson County, TN: Unassociated Funerary Objects

The six unassociated funerary objects removed from caves in Jackson County, TN, include five objects present at the PMAE and one object not currently located. The five objects present at the PMAE are five lots consisting of stone, shell, ceramic, and faunal items. The one object not currently located is one lot consisting of shell items. These objects were collected in 1877 and 1878 by Edwin Curtiss as part of PMAE expeditions and were donated by Curtiss and General G.P. Thruston in 1877 and 1878.

Marion County, TN: Unassociated Funerary Objects

The four unassociated funerary objects removed from the Holloway Mounds site in Marion County, TN, are four lots consisting of stone and ceramic items. These objects were collected in 1892 by John W. Emmert and donated to the PMAE by Emmert the same year.

The two unassociated funerary objects removed from the vicinity of Long Island, near Bridgeport, Marion County, TN, are two lots consisting of ceramic items identified as funerary objects based on object type. These objects were collected in 1879 by Edwin Curtiss as part of a PMAE expedition and accessioned by the PMAE the same year.

The one unassociated funerary object removed from a burial mound at the Shell Mound Site (40MI8) in Marion County, TN, is one lot consisting of stone items. This unassociated funerary object is not currently located at the PMAE. This object was collected in 1869 by Reverend E.O. Dunning as part of a PMAE expedition and accessioned by the PMAE the same year.

McMinn County, TN: Unassociated Funerary Objects

The three unassociated funerary objects removed from the Forrest Mounds site in McMinn County, TN, are three lots consisting of stone items. These objects were collected in 1892 by John W. Emmert and donated to the PMAE by Emmert the same year.

The three unassociated funerary objects removed from the Hudson Mound site in McMinn County, TN, are three lots consisting of stone and ceramic items. These objects were collected in 1892 by John W. Emmert and donated to the PMAE by Emmert in the same year.

The eight unassociated funerary objects removed from Michael Mound (40MN3), also known as the Mouse Creek Site, in McMinn County, TN, include seven objects present at the PMAE and one object not currently located. The seven unassociated funerary objects present are seven lots consisting of stone items. The one unassociated funerary object not currently located is one lot consisting of ceramic items. These objects were collected in 1892 by John W. Emmert and donated to the PMAE by Emmert the same year.

The seven unassociated funerary objects removed from Raht Island in McMinn County, TN, are seven lots consisting of stone and ceramic items. These objects were collected in 1892 by John W. Emmert and donated to the PMAE by Emmert the same year.

The one unassociated funerary object removed from Ware Mound in McMinn County, TN, is one lot consisting of ceramic items. These objects were collected in 1892 by John W. Emmert and donated to the PMAE by Emmert the same year.

Sumner County, TN: Unassociated Funerary Objects

The three unassociated funerary objects removed from graves at the Rutherford-Kizer Site (40SU14) in Sumner County, TN, are three lots consisting of shell items. These unassociated funerary objects are not currently located at the PMAE. These objects were collected in 1878 by Edwin Curtiss as part of a PMAE expedition and accessioned by the PMAE in 1879.

The three unassociated funerary objects removed from unknown sites in Sumner County, TN, are three lots consisting of ceramic items identified as funerary objects based on object type. These objects were collected in 1878 by Edwin Curtiss as part of a PMAE expedition and accessioned by the PMAE in 1879.

Williamson County, TN: Unassociated Funerary Objects

The 62 unassociated funerary objects removed from the Dr. Jarman Site (40WM210), also known as “Brentwood Cemetery,” in Williamson County, TN, include 60 objects that are present at the PMAE and two objects that are not currently located. The 60 unassociated funerary objects present are 60 lots consisting of organic materials and stone, ceramic, and faunal items. The two unassociated funerary objects not currently located are two lots consisting of ceramic items. These objects were collected at various times by different collectors, including by the landowner Dr. W.H. Jarman (1882), and by Frederic Ward Putnam (1882) and George Woods (1883) as part of PMAE Expeditions. The PMAE accessioned the objects donated by Jarman and collected by Putnam and Woods in 1882 and 1883.

The two unassociated funerary objects removed from Emily Hayes's Farm (40WM5), also known as the “Arnold Site,” in Williamson County, TN, are two lots consisting of ceramic and stone items. These objects were collected in 1879 by Edwin Curtiss as part of a PMAE expedition and accessioned by the PMAE in 1879.

The eight unassociated funerary objects removed from Glass Mounds in Williamson County, TN, include six objects that are present at the PMAE and two objects that are not currently located. The six unassociated funerary objects present are six lots consisting of faunal, ceramic, and stone or mineral items. The two unassociated funerary objects not currently located are two lots consisting of “red paint” and ceramic items. These objects were collected in 1879 by Edwin Curtiss as part of a PMAE expedition and accessioned by the PMAE in 1879.

The 11 unassociated funerary objects from Gray's Farm (40WM11), also known as the “Fisher-Reams Site,” in Williamson County, TN, include two objects that are present at the PMAE and nine objects that are not currently located. The two unassociated funerary objects present are two lots consisting of stone items. The nine unassociated funerary objects not currently located are nine lots consisting of stone, shell, and ceramic items. These objects were collected in 1878 by Edwin Curtiss as part of a PMAE expedition and accessioned by the PMAE in 1878.

The one unassociated funerary object removed from an unknown location in Williamson County, TN, is one lot consisting of shell items identified as funerary objects based on object type. This object was collected in 1878 by Edwin Curtiss as part of a PMAE expedition and accessioned by the PMAE in 1878.

Williamson County, TN: Sacred Objects

The seven sacred objects from the Chenoweth Site (40WM86), also known as “John Owen Hunt's Farm,” in Williamson County, TN, include four objects that are present at the PMAE and three objects that are not currently located. The four sacred objects present are four lots consisting of ceramic items, stone items, faunal remains, and other natural materials. The three sacred objects not currently located are three lots consisting of faunal remains, shell, and botanical remains. These sacred objects were collected in 1882 by Frederic Ward Putnam as part of a PMAE expedition and accessioned by the PMAE in 1882.

Determinations

The PMAE has determined that:

• The 206 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The 15 sacred objects described in this notice are specific ceremonial objects needed by a traditional Native American religious leader for present-day adherents to practice traditional Native American religion, according to the Native American traditional knowledge of a lineal descendant, Indian Tribe, or Native Hawaiian organization.

• There is a reasonable connection between the cultural items described in this notice and the Cherokee Nation; Eastern Band of Cherokee Indians; and the United Keetoowah Band of Cherokee Indians in Oklahoma.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 17, 2025. If competing requests for repatriation are received, the PMAE must determine the most appropriate requestor prior to repatriation. Requests for joint repatriation of the cultural items are considered a single request and not competing requests. The PMAE is responsible for sending a copy of this notice to the Indian Tribes and Native Hawaiian organizations identified in this notice and to any other consulting parties.

Authority: Native American Graves Protection and Repatriation Act, 25 U.S.C. 3004 and the implementing regulations, 43 CFR 10.9.

Dated: June 11, 2025.
Melanie O'Brien,
Manager, National NAGPRA Program.

[FR Doc. 2025-11138 Filed 6-16-25; 8:45 am]

BILLING CODE 4312-52-P